DEPARTMENT OF THE INTERIOR

Bureau of Land Management

[WY-957-1420-BJ-P]

Filing of Plats of Survey; Wyoming

AGENCY: Bureau of Land Management, Interior.

ACTION: Notice.

The plats of the following described lands were officially filed in the Wyoming State Office, Bureau of Land Management, Cheyenne, Wyoming, effective 10:00 a.m., October 1, 2001.

The plat representing the dependent resurvey of the west boundary and the subdivisional lines, T. 52 N., R. 74 W., Sixth Principal Meridian, Wyoming, Group No. 653, was accepted August 20, 2001.

The plat representing the dependent resurvey of portions of the south boundary and subdivisional lines, and the subdivision of sections 28 and 33, T. 55 N., R. 91 W., Sixth Principal Meridian, Wyoming, Group No. 654, was accepted September 28, 2001.

The plat representing the dependent resurvey of the west boundary and portions of the south and north boundaries and subdivisional lines, and the subdivision of certain sections, T. 54 N., R. 91 W., Sixth Principal Meridian, Wyoming, Group No. 654, was accepted September 28, 2001.

The plat representing the dependent resurvey of portions of the south and west boundaries and the subdivisional lines, T. 52 N., R. 75 W., Sixth Principal Meridian, Wyoming, Group No. 671, was accepted September 28, 2001.

The plat representing the dependent resurvey of portions of the west boundary and subdivisional lines, and the subdivision of sections 19 and 20, T. 52 N., R. 91 W., Sixth Principal Meridian, Wyoming, Group No. 672, was accepted September 28, 2001.

Dated: October 1, 2001.
John P. Lee,
Chief Cadastral Survey Group.

[FR Doc. 01-27909 Filed 11-6-01; 8:45 am]

BILLING CODE 4310-22-P